DEPARTMENT OF ENERGY

Federal Energy Regulatory Commission

Combined Notice of Filings

Take notice that the Commission has received the following Natural Gas Pipeline Rate and Refund Report filings:

Filings Instituting Proceedings

Docket Numbers: RP12-517-000.

Applicants: Questar Pipeline Company.

Description: Statement of Negotiated Rates—V4.0.0—TME to be effective 4/2/2012.

Filed Date: 3/27/12.

Accession Number: 20120327-5071.

Comments Due: 5 p.m. ET 4/9/12.

Docket Numbers: RP12-518-000.

Applicants: Trailblazer Pipeline Company LLC.

Description: Negotiated Rate Filing—United Energy to be effective 4/1/2012.

Filed Date: 3/27/12.

Accession Number: 20120327-5084.

Comments Due: 5 p.m. ET 4/9/12.

Docket Numbers: RP12-519-000.

Applicants: Horizon Pipeline Company, LLC.

Description: Natural Negotiated Rate Filing to be effective 4/1/2012.

Filed Date: 3/27/12.

Accession Number: 20120327-5147.

Comments Due: 5 p.m. ET 4/9/12.

Docket Numbers: RP12-520-000.

Applicants: Gulf Crossing Pipeline Company LLC.

Description: Create Enhanced Firm Transportation (EFT) Service to be effective 5/1/2012.

Filed Date: 3/28/12.

Accession Number: 20120328-5020.

Comments Due: 5 p.m. ET 4/9/12.

Docket Numbers: RP12-521-000.

Applicants: Texas Gas Transmission, LLC.

Description: Cross Timbers Amendment #2 to Negotiated Rate Agreement 29061 to be effective 4/1/2012.

Filed Date: 3/28/12.

Accession Number: 20120328-5021.

Comments Due: 5 p.m. ET 4/9/12.

Docket Numbers: RP12-522-000.

Applicants: Texas Gas Transmission, LLC.

Description: Cross Timbers Amendment to Negotiated Rate Agreement 31116 to be effective 4/1/2012.

Filed Date: 3/28/12.

Accession Number: 20120328-5022.

Comments Due: 5 p.m. ET 4/9/12.

Docket Numbers: RP12-523-000.

Applicants: Gulf South Pipeline Company, LP

Description: Sequent 39404 Negotiated Rate Agreement Filing to be effective 4/1/2012.

Filed Date: 3/28/12.

Accession Number: 20120328-5023.

Comments Due: 5 p.m. ET 4/9/12.

Docket Numbers: RP12-524-000.

Applicants: Gulf South Pipeline Company, LP

Description: Sequent 39411 Negotiated Rate Agreement Filing to be effective 4/1/2012.

Filed Date: 3/28/12.

Accession Number: 20120328-5024.

Comments Due: 5 p.m. ET 4/9/12.

Docket Numbers: RP12-525-000.

Applicants: Gulf South Pipeline Company, LP.

Description: Sequent 39412 Negotiated Rate Agreement Filing to be effective 4/1/2012.

Filed Date: 3/28/12.

Accession Number: 20120328-5025.

Comments Due: 5 p.m. ET 4/9/12.

Docket Numbers: RP12-526-000.

Applicants: Gulf South Pipeline Company, LP.

Description: Sequent 39413 Negotiated Rate Agreement Filing to be effective 4/1/2012.

Filed Date: 3/28/12.

Accession Number: 20120328-5026.

Comments Due: 5 p.m. ET 4/9/12.

Docket Numbers: RP12-527-000.

Applicants: Gulf South Pipeline Company, LP.

Description: Tenaska 39395 Negotiated Rate Agreement Filing to be effective 4/1/2012.

Filed Date: 3/28/12.

Accession Number: 20120328-5027.

Comments Due: 5 p.m. ET 4/9/12.

Docket Numbers: RP12-528-000.

Applicants: Gulf South Pipeline Company, LP.

Description: Tenaska 39396 Negotiated Rate Agreement Filing to be effective 4/1/2012 .

Filed Date: 3/28/12.

Accession Number: 20120328-5028.

Comments Due: 5 p.m. ET 4/9/12.

Docket Numbers: RP12-529-000.

Applicants: Trailblazer Pipeline Company LLC.

Description: Negotiated Rate Filing—CIMA to be effective 4/1/2012.

Filed Date: 3/28/12.

Accession Number: 20120328-5061.

Comments Due: 5 p.m. ET 4/9/12.

Docket Numbers: RP12-530-000.

Applicants: Trailblazer Pipeline Company LLC.

Description: Negotiated Rate Filing—MIECO to be effective 4/1/2012.

Filed Date: 3/28/12.

Accession Number: 20120328-5062.

Comments Due: 5 p.m. ET 4/9/12.

Docket Numbers: RP12-531-000.

Applicants: Kern River Gas Transmission Company.

Description: Kern River Gas Transmission Company submits its Annual Gas Compressor Fuel Report.

Filed Date: 3/28/12.

Accession Number: 20120328-5078.

Comments Due: 5 p.m. ET 4/9/12.

Docket Numbers: RP12-532-000.

Applicants: Trailblazer Pipeline Company LLC.

Description: Negotiated Rate—Shell to be effective 4/1/2012.

Filed Date: 3/29/12.

Accession Number: 20120329-5027.

Comments Due: 5 p.m. ET 4/10/12.

Docket Numbers: RP12-533-000.

Applicants: Texas Eastern Transmission, LP.

Description: NJRES Negotiated Rate—effective 4-1-2012 to be effective 4/1/2012.

Filed Date: 3/29/12.

Accession Number: 20120329-5030.

Comments Due: 5 p.m. ET 4/10/12.

Docket Numbers: RP12-534-000.

Applicants: Pine Needle LNG Company, LLC.

Description: Pine Needle 2012 Fuel Tracker and Electric Power Filing to be effective 5/1/2012.

Filed Date: 3/29/12.

Accession Number: 20120329-5031.

Comments Due: 5 p.m. ET 4/10/12.

Docket Numbers: RP12-535-000.

Applicants: Midwestern Gas Transmission Company.

Description: ProLiance Energy Company FA0845 to be effective 4/1/2012.

Filed Date: 3/29/12.

Accession Number: 20120329-5032.

Comments Due: 5 p.m. ET 4/10/12.

Docket Numbers: RP12-536-000.

Applicants: Trailblazer Pipeline Company LLC.

Description: Negotiated Rate—Concord to be effective 4/1/2012.

Filed Date: 3/29/12.

Accession Number: 20120329-5068.

Comments Due: 5 p.m. ET 4/10/12.

Docket Numbers: RP12-537-000.

Applicants: Trailblazer Pipeline Company LLC.

Description: Trailblazer Pipeline Company LLC submits tariff filing per 154.204: Koch Energy Negotiated Rate to be effective 4/1/2012.

Filed Date: 3/29/12.

Accession Number: 20120329-5080.

Comments Due: 5 p.m. ET 4/10/12.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP12-483-001.

Applicants: Petal Gas Storage, LLC.

Description: Amendment to RP12-483-000 to be effective 4/9/2012.

Filed Date: 3/28/12.

Accession Number: 20120328-5086.

Comments Due: 5 p.m. ET 4/9/12.

Docket Numbers: RP12-507-001.

Applicants: Petal Gas Storage, LLC.

Description: Amendment to RP12-507-000 to be effective 5/1/2012.

Filed Date: 3/28/12.

Accession Number: 20120328-5087.

Comments Due: 5 p.m. ET 4/9/12.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: March 29, 2012.
Nathaniel J. Davis, Sr.,
Deputy Secretary.

[FR Doc. 2012-8305 Filed 4-5-12; 8:45 am]

BILLING CODE 6717-01-P